DEPARTMENT OF COMMERCE

International Trade Administration

Cornell University, et al.; Notice of Decision on Applications for Duty-Free Entry of Scientific Instruments

This is a decision pursuant to Section 6(c) of the Educational, Scientific, and Cultural Materials Importation Act of 1966 (Pub. L. 89-651, as amended by Pub. 106-36; 80 Stat. 897; 15 CFR part 301). Related records can be viewed between 8:30 a.m. and 5:00 p.m. in Room 3720, U.S. Department of Commerce, 14th and Constitution Ave. NW., Washington, DC

Docket Number: 12-011. Applicant: Cornell University, Ithaca, NY 14853. Instrument: Pixel Array Detector. Manufacturer: Dectris Ltd., Switzerland. Intended Use: See notice at 77 FR 23660, April 20, 2012. Comments: None received. Decision: Approved. We know of no instruments of equivalent scientific value to the foreign instruments described below, for such purposes as this is intended to be used, that was being manufactured in the United States at the time of order. Reasons: This instrument will be used to determine the composition of molecules and visualizing their interaction sat the molecular level. Pertinent characteristics of this instrument include shutterless data collection, low noise, high dynamic range, high readout speed and very fine phi slicing, not available in conventional charge-coupled device detectors.

Docket Number: 12-017. Applicant: Argonne National Laboratory, Lemont, IL 60439. Instrument: Pilatus 100K-S Detector. Manufacturer: Dectris Ltd., Switzerland. Intended Use: See notice at 77 FR 23660, April 20, 2012.

Comments: None received. Decision: Approved. We know of no instruments of equivalent scientific value to the foreign instruments described below, for such purposes as this is intended to be used, that was being manufactured in the United States at the time of order. Reasons: This instrument will be used to measure time evolution of x-ray diffraction signals from a variety of materials, including complex oxides and to determine the time-dependent atomic arrangements in those materials. Pertinent characteristics of this instrument include photon energy discrimination and gateable counting. The instrument also has a faster readout speed and better dynamic range than other detectors.

Dated: May 16, 2012.
Gregory W. Campbell,
Director, Subsidies Enforcement Office, Import Administration.

[FR Doc. 2012-12577 Filed 5-22-12; 8:45 am]

BILLING CODE 3510-DS-P